Title 3—

The President

Proclamation 7877 of March 31, 2005

National Crime Victims' Rights Week, 2005

By the President of the United States of America

A Proclamation

In proclaiming the first Victims' Rights Week in 1981, President Reagan said, “it is time all of us paid greater heed to the plight of victims.” Since then, America has made great progress in treating crime victims with greater respect, meeting their needs, and providing them with help, hope, and healing. Each year, during National Crime Victims' Rights Week, we remember those who have lost their lives in violent crimes. We also renew our commitment to address the needs of victims and their families and to build public awareness of crime victims' rights.

The violent crime rate is at its lowest point in three decades. We must remain steadfast in our efforts to make America safer for all citizens and fairer for victims of crime. The Department of Justice has received historic levels of funding for programs to protect women and prosecute criminals. Family Justice Centers are helping local communities provide comprehensive services to victims of domestic crime and their loved ones. State and local law enforcement officials are continuing to serve the public and assist victims of crime. I signed into law the Justice for All Act of 2004, which expands DNA testing and enhances the scope and enforceability of crime victims' rights.

As we work to combat crime and support victims, we must also ensure the fairness and effectiveness of our criminal justice system. All 50 States and the Federal Government have passed important legal protections for victims of violent crime, and more than half the States have amended their constitutions to guarantee rights for victims. My Administration continues to support the bipartisan Crime Victims' Rights Amendment to the Constitution, which would safeguard basic rights for victims regarding their safety, notification of public proceedings involving the crime, and claims of restitution.

Across our Nation, individuals and organizations—including faith-based and community groups—are dedicated to defending and securing the rights of crime victims and providing hope and healing to those who hurt. Together, their commitment and compassion help ensure that our legal system stands up for the rights of victims and that our communities step forward to lend a hand to people in need. During this week, we honor their extraordinary work and renew our pledge to protect the rights of crime victims.

NOW, THEREFORE, I, GEORGE W. BUSH, President of the United States of America, by virtue of the authority vested in me by the Constitution and laws of the United States, do hereby proclaim April 10 through April 16, 2005, as National Crime Victims' Rights Week. I encourage all Americans to highlight and advance the cause of victims' rights in their communities.

IN WITNESS WHEREOF, I have hereunto set my hand this thirty-first day of March, in the year of our Lord two thousand five, and of the Independence of the United States of America the two hundred and twenty-ninth.

B

[FR Doc. 05-6847

Filed 4-4-05; 8:45 am]

Billing code 3195-01-P